DEPARTMENT OF AGRICULTURE

Food and Nutrition Service

Agency Information Collection Activities: Proposed Collection; Comment Request—Forms FNS-806-A, Claim for Reimbursement (National School Lunch and School Breakfast Programs), and FNS-806-B, Claim for Reimbursement (Special Milk Program for Children)

AGENCY: Food and Nutrition Service, USDA.

ACTION: Notice and request for comments.

SUMMARY: In accordance with the Paperwork Reduction Act of 1995, this notice invites the general public to comment on the proposed information collections. The Food and Nutrition Service (FNS) uses the Claims for Reimbursement, FNS-806-A and FNS-806-B, to collect data to determine the amount of reimbursement school food authorities participating in the National School Lunch Program (NSLP), School Breakfast Program (SBP), and Special Milk Program for Children (SMP) are eligible to receive.

DATES: Written comments on this notice must be received or postmarked by September 18, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Melissa Rothstein, Chief, Program Analysis and Monitoring Branch, Child and Nutrition Division, Food and Nutrition Service, USDA, 3101 Park Center Drive, Room 640, Alexandria, Virginia 22302. Comments may also be submitted via fax to the attention of Melissa Rothstein at (703) 305-2879 or via e-mail to melissa.rothstein@fns.usda.gov.

All written comments will be open for public inspection at the office of the Food and Nutrition Service during regular business hours (8:30 a.m. to 5 p.m., Monday through Friday) at 3101 Park Center Drive, Alexandria, Virginia 22302, Room 640.

All responses to this notice will be summarized and included in the request for OMB approval. All comments will be a matter of public record.

FOR FURTHER INFORMATION CONTACT: Request for additional information or copies of this information collection should be directed to Melissa Rothstein at (703) 305-2590.

SUPPLEMENTARY INFORMATION: Title: Monthly Claims for Reimbursement.

OMB Numbers: 0584-0284.

Expiration Date: November 30, 2006.

Type of Request: Revision of a currently approved information collection.

Abstract: The NSLP and SBP, and SMP Claim for Reimbursement, Forms FNS-806-A and FNS-806-B, respectively, are used to collect meal and milk data from school food authorities whose participation in these programs are administered directly by FNS Regional Offices (Regional Office Administered Programs, or ROAP). The FNS Regional Office directly administers the NSLP, SMP, and/or SBP programs in Virginia, Georgia, Colorado and Missouri. In order to determine the amount of reimbursement for meals and milk served, the school food authorities are required to complete these forms. The completed forms are either sent to the Child Nutrition Payments Center at the FNS Mid-Atlantic Regional Office where they are entered into a computerized payment system or submitted electronically via the Internet directly into the Child Nutrition Payments Center. The payment system computes earned reimbursement.

Earned reimbursement in the NSLP, SBP and SMP is based on performance that is measured as an assigned rate per meal or half pint of milk served. To fulfill the earned reimbursement requirements set forth in NSLP, SBP and SMP regulations issued by the Secretary of Agriculture (7 CFR 210.8 and 220.11; and 215.10), the meal and milk data must be collected on Forms FNS-806-A and FNS-806-B, respectively. These forms are an intrinsic part of the accounting system currently being used by the subject programs to ensure proper reimbursement as well as to facilitate adequate recordkeeping.

Respondents: The respondents are school food authorities and facilities participating in the NSLP, SBP and SMP under the auspices of the FNS ROAP.

Reporting Burden

Estimated Number of Respondents: 273.

Estimated Number of Responses per Respondent: 10.

Estimated Hours per Response: .5.

Estimated Annual Reporting Burden Hours: 1365.

Recordkeeping Burden

Estimated Number of Respondents: 273.

Estimated Number of Responses per Respondent: 10.

Estimated Hours per Response: .08.

Estimated Annual Recordkeeping Burden Hours: 218.

Estimated Total Annual Reporting and Recordkeeping Burden: 1,583.

Dated: July 6, 2006.
Roberto Salazar,
Administrator, Food and Nutrition Service.

[FR Doc. E6-11441 Filed 7-18-06; 8:45 am]

BILLING CODE 3410-30-P